DEPARTMENT OF TRANSPORTATION

Federal Aviation Administration

14 CFR Part 39

[Docket No. FAA-2023-1645; Project Identifier MCAI-2022-01296-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2019-12-07, which applies to all Airbus SAS Model A318-111, -112, -121, and -122 airplanes; Model A319-111, -112, -113, -114, -115, -131, -132, and -133 airplanes; Model A320-211, -212, -214, -216, -231, -232, and -233 airplanes; and Model A321-111, -112, -131, -211, -212, -213, -231, and -232 airplanes. AD 2019-12-07 requires replacement of both main landing gear (MLG) shock absorbers, an identification of affected MLG sliding tubes; inspection of affected chromium plates and sliding tube axles for damage; and replacement of the sliding tube if necessary. AD 2019-12-07 also requires repetitive inspections of affected MLG sliding tubes for cracking, replacement of cracked MLG sliding tubes, and eventual replacement of each affected MLG sliding tube. Since the FAA issued AD 2019-12-07, the FAA has determined that additional MLG sliding tubes are affected by the unsafe condition and that the repetitive inspection interval may be extended. This proposed AD would continue to require the actions specified in AD 2019-12-07 and would require repetitive inspections of additional MLG sliding tubes, replacement if necessary, and eventual replacement of the additional MLG sliding tubes. This proposed AD would also extend the repetitive inspection interval. This proposed AD would also prohibit the installation of affected parts under certain conditions. The FAA is proposing this AD to address the unsafe condition on these products.

DATES: The FAA must receive comments on this proposed AD by September 15, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1645; or in person at Docket Operations between 9 a.m. and 5 p.m., Monday through Friday, except Federal holidays. The AD docket contains this NPRM, the mandatory continuing airworthiness information (MCAI), any comments received, and other information. The street address for Docket Operations is listed above.

Material Incorporated by Reference:

• For Airbus service information identified in this NPRM, contact Airbus SAS, Airworthiness Office—EIAS, Rond-Point Emile Dewoitine No: 2, 31700 Blagnac Cedex, France; telephone +33 5 61 93 36 96; fax +33 5 61 93 44 51; email account.airworth-eas@airbus.com; website airbus.com.

• For Safran and Messier-Dowty service information identified in this NPRM, contact Safran Landing Systems, One Carbon Way, Walton, KY 41094; telephone 859-525-8583; fax 859-485-8827; website www.safran-landing-systems.com.

• You may view this service information at the FAA, Airworthiness Products Section, Operational Safety Branch, 2200 South 216th St., Des Moines, WA. For information on the availability of this material at the FAA, call 206-231-3195.

FOR FURTHER INFORMATION CONTACT: Timothy Dowling, Aviation Safety Engineer, FAA, 1600 Stewart Avenue, Suite 410, Westbury, NY 11590; phone: 206-231-3667; email: Timothy.P.Dowling@faa.gov.

SUPPLEMENTARY INFORMATION:

Comments Invited

The FAA invites you to send any written relevant data, views, or arguments about this proposal. Send your comments to an address listed under ADDRESSES. Include “Docket No. FAA-2023-1645; Project Identifier MCAI-2022-01296-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Timothy Dowling, Aviation Safety Engineer, FAA, 1600 Stewart Avenue, Suite 410, Westbury, NY 11590; phone: 206-231-3667; email: Timothy.P.Dowling@faa.gov. Any commentary that the FAA receives which is not specifically designated as CBI will be placed in the public docket for this rulemaking.

Background

The FAA issued AD 2019-12-07, Amendment 39-19662 (84 FR 30579, June 27, 2019) (AD 2019-12-07), for all Airbus SAS Model A318-111, -112, -121, and -122 airplanes; Model A319-111, -112, -113, -114, -115, -131, -132, and -133 airplanes; Model A320-211, -212, -214, -216, -231, -232, and -233 airplanes; and Model A321-111, -112, -131, -211, -212, -213, -231, and -232 airplanes. AD 2019-12-07 was prompted by an MCAI originated by the European Union Aviation Safety Agency (EASA), which is the Technical Agent for the Member States of the European Union. EASA issued AD 2018-0135, dated June 26, 2018 (EASA AD 2018-0135), to correct an unsafe condition.

AD 2019-12-07 requires replacement of both MLG shock absorbers, an identification of the part number and serial number of the MLG sliding tubes, inspection of affected chromium plates and sliding tube axles for damage, and replacement of the sliding tube if necessary. AD 2019-12-07 also requires repetitive inspections of affected MLG sliding tubes for cracking, replacement of cracked MLG sliding tubes, and eventual replacement of each affected MLG sliding tube. The FAA issued AD 2019-12-07 to address cracking in an MLG sliding tube, which could lead to failure of an MLG sliding tube resulting in MLG collapse, damage to the airplane, and injury to passengers.

Actions Since AD 2019-12-07 Was Issued

Since the FAA issued AD 2019-12-07, EASA superseded EASA AD 2018-0135 and issued EASA AD 2022-0204R1, dated February 15, 2023; corrected February 17, 2023; (referred to after this as the MCAI) to correct an unsafe condition on all Airbus SAS Model A318-111, -112, -121, and -122 airplanes; Model A319-111, -112, -113, -114, -115, -131, -132, and -133 airplanes; Model A320-211, -212, -214, -215, -216, -231, -232, and -233 airplanes; and Model A321-111, -112, -131, -211, -212, -213, -231, and -232 airplanes. Model A320-215 airplanes are not certificated by the FAA and are not included on the U.S. type certificate data sheet; this proposed AD therefore does not include those airplanes in the applicability The MCAI states that since EASA AD 2018-0135 was issued, two additional cases have been reported of cracking at the same location of MLG sliding tubes not affected by the inspection requirements and that service information was issued to include additional actions for the newly affected MLG sliding tubes. In addition, further investigation determined the repetitive inspection interval may be extended from 5,000 flight cycles to 10,000 flight cycles.

The FAA has determined that additional MLG sliding tubes are affected by the unsafe condition and that the repetitive inspection interval may be extended. The FAA is proposing this AD to address cracking in an MLG sliding tube, which could lead to failure of an MLG sliding tube resulting in MLG collapse, damage to the airplane, and injury to passengers.

You may examine the MCAI in the AD docket at regulations.gov under Docket No. FAA-2023-1645.

Related Service Information Under 1 CFR Part 51

The FAA reviewed Airbus Service Bulletin A320-32-1441, Revision 02, dated August 23, 2022. This service information specifies procedures for inspections of the MLG sliding tubes for cracking and corrective actions (which includes replacing the MLG sliding tubes).

The FAA also reviewed Safran Service Bulletin 200-32-321, Revision 4, dated November 3, 2021; and Safran Service Bulletin 201-32-68, Revision 4, dated November 3, 2021. These documents specify the part numbers and serial numbers of the affected MLG sliding tubes. These documents are distinct since they apply to different airplane models.

This proposed AD would also require the following service information, which the Director of the Federal Register approved for incorporation by reference as of August 1, 2019 (84 FR 30579, June 27, 2019).

• Airbus Service Bulletin A320-32-1441, Revision 01, dated December 14, 2017.

• Messier-Dowty Service Bulletin 200-32-286, Revision 3, dated October 3, 2008.

• Messier-Dowty Service Bulletin 201-32-43, Revision 3, dated October 3, 2008.

• Safran Service Bulletin 200-32-321, Revision 2, dated October 3, 2017.

• Safran Service Bulletin 201-32-68, Revision 2, dated October 3, 2017.

This proposed AD would also require Airbus Service Bulletin A320-32-1416, including Appendix 01, dated March 10, 2014, which the Director of the Federal Register approved for incorporation by reference as of February 22, 2017 (82 FR 5362, January 18, 2017).

This proposed AD would also require Airbus Service Bulletin A320-32A1273, Revision 02, including Appendix 01, dated May 26, 2005, which the Director of the Federal Register approved for incorporation by reference as of June 29, 2007 (72 FR 29241, May 25, 2007).

This proposed AD would also require Airbus All Operators Telex A320-32A1273, Revision 01, dated May 6, 2004, which the Director of the Federal Register approved for incorporation by reference as of June 23, 2004 (69 FR 31867, June 8, 2004).

This service information is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and service information referenced above. The FAA is issuing this NPRM after determining that unsafe condition described previously is likely to exist or develop on other products of the same type design.

Proposed AD Requirements in This NPRM

This proposed AD would retain all of the requirements of AD 2019-12-07, except the repetitive inspection interval is extended. This proposed AD would also require repetitive inspections of additional MLG sliding tubes, replacement if necessary, and eventual replacement of the additional MLG sliding tubes. This proposed AD would also prohibit the installation of affected parts under certain conditions.

Costs of Compliance

The FAA estimates that this AD, if adopted as proposed, would affect 1,525 airplanes of U.S. registry.

The FAA estimates the following costs to comply with this proposed AD:

Estimated Costs for Required Actions
Action | Labor cost | Parts cost | Cost per product | Cost on U.S. operators
Retained actions from paragraph (g) of AD 2019-12-07 (297 airplanes *) | 8 work-hours × $85 per hour = $680 | Up to $45,310 | Up to $45,990 | Up to $13,659,030.*
Retained actions from paragraphs (h) and (j) of AD 2019-12-07 | 18 work-hours × $85 per hour = $1,530 | $0 | $1,530 | $2,333,250.
Retained actions from paragraphs (o), (p), and (q) of AD 2019-12-07 | 13 work-hours × $85 per hour = $1,105 | Up to $3,920 | Up to $5,025 | Up to $7,663,125.
New proposed actions (in paragraphs (o), (p), and (q) of this proposed AD) | 9 work-hours × $85 per hour = $765 | Up to $3,920 | Up to $4,685 | Up to $7,144,625.
* Operators should note that, although all U.S.-registered airplanes are subject to the retained requirements of paragraph (g) of this proposed AD, there are only 297 possible affected MLG sliding tubes in the worldwide fleet. The FAA has no way of knowing how many affected MLG sliding tubes, if any, are installed in U.S.-registered airplanes.

The FAA estimates the following costs to do any necessary on-condition actions that would be required based on the results of any required actions. The FAA has no way of determining the number of aircraft that might need these on-condition actions:

Estimated Costs of On-Condition Actions
Labor cost | Parts cost | Cost per product
7 work-hours × $85 per hour = $595 | $1,960 | $2,555

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-12-07, Amendment 39-19662 (84 FR 30579, June 27, 2019); and

b. Adding the following new AD:

Airbus SAS: Docket No. FAA-2023-1645; Project Identifier MCAI-2022-01296-T.

(a) Comments Due Date

The FAA must receive comments on this airworthiness directive (AD) by September 15, 2023.

(b) Affected ADs

This AD replaces AD 2019-12-07, Amendment 39-19662 (84 FR 30579, June 27, 2019) (AD 2019-12-07).

(c) Applicability

This AD applies to Airbus SAS airplanes identified in paragraphs (c)(1) through (4) of this AD, certificated in any category, all manufacturer serial numbers (MSNs).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 32, Landing gear.

(e) Reason

This AD was prompted by a determination that cracks were found in the main landing gear (MLG) sliding tubes due to certain manufacturing defects that might not be identified using the current on-wing scheduled inspections. In addition, since AD 2019-12-07 was issued, the FAA has determined that additional MLG sliding tubes are affected by the unsafe condition. The FAA is issuing this AD to address cracking in an MLG sliding tube, which could lead to failure of an MLG sliding tube resulting in MLG collapse, damage to the airplane, and injury to passengers.

(f) Compliance

Comply with this AD within the compliance times specified, unless already done.

(g) Retained Replacement, With No Changes

This paragraph restates the requirements of paragraph (g) of AD 2019-12-07, with no changes. Within 41 months after June 29, 2007 (the effective date of AD 2007-11-11, Amendment 39-15068 (72 FR 29241, May 25, 2007) (AD 2007-11-11)), replace all MLG shock absorbers equipped with MLG sliding tubes having serial numbers listed in Airbus All Operators Telex (AOT) A320-32A1273, Revision 01, dated May 6, 2004; or the Accomplishment Instructions of Airbus Service Bulletin A320-32A1273, Revision 02, including Appendix 01, dated May 26, 2005; with new or serviceable MLG shock absorbers equipped with MLG sliding tubes having serial numbers not listed in Airbus AOT A320-32A1273, Revision 01, dated May 6, 2004; or the Accomplishment Instructions of Airbus Service Bulletin A320-32A1273, Revision 02, including Appendix 01, dated May 26, 2005; using a method approved by the Manager, International Section, Transport Standards Branch, FAA; or the European Aviation Safety Agency (EASA); or Airbus SAS's EASA Design Organization Approval (DOA). If approved by the DOA, the approval must include the DOA-authorized signature. As of June 29, 2007, only Airbus Service Bulletin A320-32A1273, Revision 02, including Appendix 01, dated May 26, 2005, may be used to determine the affected MLG sliding tubes.

Note 1 to paragraph (g): Guidance on the replacement specified in paragraph (g) of this AD can be found in Airbus A318/A319/A320/A321 Aircraft Maintenance Manual Chapter 32-11-13, page block 401.

(h) Retained MLG Sliding Tube Part Number and Serial Number Identification, With No Changes

This paragraph restates the requirements of paragraph (h) of AD 2019-12-07, with no changes. Within three months after February 22, 2017 (the effective date of AD 2017-01-11, Amendment 39-18778 (82 FR 5362, January 18, 2017) (AD 2017-01-11)): Do an inspection to identify the part number and serial number of the MLG sliding tubes installed on the airplane. A review of airplane maintenance records is acceptable in lieu of this inspection if the part number and serial number of the MLG sliding tubes can be conclusively determined from that review.

(i) Retained Identification of Airplanes, With an Updated Reference

This paragraph restates the requirements of paragraph (i) of AD 2019-12-07, with an updated reference. An airplane with a MSN not listed in figure 1 to paragraph (i) of this AD is not affected by the requirements of paragraph (j) of this AD, provided it can be determined that no MLG sliding tube having a part number and serial number listed in figure 2 to paragraph (i) of this AD has been installed on that airplane since first flight of the airplane.

BILLING CODE 4910-13-P

Figure 1 to Paragraph (i)—Affected Airplanes Listed by MSN

Figure 2 to Paragraph (i)—Affected MLG Sliding Tubes

BILLING CODE 4910-13-C

(j) Retained Inspections, With an Updated Reference

This paragraph restates the inspections required by paragraph (j) of AD 2019-12-07, with an updated reference. For each MLG sliding tube identified as required by paragraph (h) of this AD, having a part number and serial number listed in figure 2 to paragraph (i) of this AD: Within 3 months after February 22, 2017 (the effective date of AD 2017-01-11) inspect affected MLG axles and brake flanges by doing a detailed visual inspection of the chromium plates for damage, and a Barkhausen noise inspection of the MLG sliding tube axles for damage, in accordance with the Accomplishment Instructions of Airbus Service Bulletin A320-32-1416, including Appendix 01, dated March 10, 2014. For Model A318 series airplanes, use the procedures specified for Model A319 series airplanes in Airbus Service Bulletin A320-32-1416, including Appendix 01, dated March 10, 2014.

(k) Retained Corrective Action for Paragraph (j) of This AD, With No Changes

This paragraph restates the requirements of paragraph (k) of 2019-12-07, with no changes. If, during any inspection required by paragraph (j) of this AD, any damage is detected: Before further flight, replace the MLG sliding tube with a serviceable MLG sliding tube, in accordance with the Accomplishment Instructions of Airbus Service Bulletin A320-32-1416, including Appendix 01, dated March 10, 2014. For Model A318 series airplanes, use the procedures specified for Model A319 series airplanes in Airbus Service Bulletin A320-32-1416, including Appendix 01, dated March 10, 2014.

(l) Retained Definition for Serviceable MLG Sliding Tube, With Updated References

This paragraph restates the definition for serviceable MLG sliding tube specified in paragraph (l) of AD 2019-12-07, with updated references. For the purpose of paragraph (k) of this AD, a serviceable MLG sliding tube is defined as an MLG sliding tube that meets the criterion in either paragraph (l)(1) or (2) of this AD.

(1) An MLG sliding tube having a part number and serial number not listed in figure 2 to paragraph (i) of this AD.

(2) An MLG sliding tube having a part number and serial number listed in figure 2 to paragraph (i) of this AD that has passed the inspections required by paragraph (j) of this AD.

(m) Retained Parts Installation Prohibition, With Updated References

This paragraph restates the parts installation prohibition specified in paragraph (m) of AD 2019-12-07, with updated references.

(1) For airplanes that have an MLG sliding tube installed that has a part number and serial number listed in figure 2 to paragraph (i) of this AD: After an airplane is returned to service following accomplishment of the actions required by paragraphs (h), (i), and (j) of this AD, no person may install on any airplane an MLG sliding tube having a part number and serial number listed in figure 2 to paragraph (i) of this AD, unless that MLG sliding tube has passed the inspection required by paragraph (j) of this AD.

(2) For airplanes that, as of February 22, 2017 (the effective date of AD 2017-01-11), do not have an MLG sliding tube installed that has a part number and serial number listed in figure 2 to paragraph (i) of this AD: No person may install, on any airplane, an MLG sliding tube having a part number and serial number listed in figure 2 to paragraph (i) of this AD unless that MLG sliding tube has passed the inspection required by paragraph (j) of this AD.

(n) Retained Definitions, With No Changes

This paragraph restates the definitions specified in paragraph (n) of AD 2019-12-07, with no changes. For the purpose of paragraphs (o), (p), (q), (r), and (s) of this AD, the following definitions apply.

(1) Affected MLG shock absorber: An MLG shock absorber having a part number and serial number as identified in Messier-Dowty Service Bulletin 200-32-286, Revision 3, dated October 3, 2008, for Model A318, A319, and A320 series airplanes; and Messier-Dowty Service Bulletin 201-32-43, Revision 3, dated October 3, 2008, for Model A321 series airplanes.

(2) Affected MLG sliding tube: An MLG sliding tube having a part number and serial number as identified in Appendix B of Safran Service Bulletin 200-32-321, Revision 2, dated October 3, 2017, for Model A318, A319, and A320 series airplanes, or Safran Service Bulletin 201-32-68, Revision 2, dated October 3, 2017, for Model A321 series airplanes; except those parts that passed an inspection as specified in Safran Service Bulletin 200-32-321 or Safran Service Bulletin 201-32-68, as applicable; and those parts that, after that inspection, have been repaired, using instructions approved by the Manager, International Section, Transport Standards Branch, FAA; or EASA; or Airbus SAS's EASA DOA. If approved by the DOA, the approval must include the DOA-authorized signature.

Note 2 to paragraph (n)(2) of this AD: The affected MLG sliding tubes identified in paragraph (n)(2) of this AD are referred to as affected “Batch 1” MLG sliding tubes in EASA AD 2022-0204R1, dated February 15, 2023; corrected February 17, 2023.

(3) Serviceable MLG sliding tube: An MLG sliding tube that is not affected, or an affected MLG sliding tube, that has not exceeded 10,000 flight cycles since first installation on an airplane, or an affected MLG sliding tube that, within the last 5,000 flight cycles before installation on an airplane, passed an inspection specified in Airbus Service Bulletin A320-32-1441.

(o) Retained Repetitive Inspections, With New Service Information and Extended Inspection Interval

This paragraph restates the repetitive inspections required by paragraph (o) of AD 2019-12-07, with new service information and extended inspection interval. At the compliance time specified in figure 3 to paragraph (o) of this AD, and thereafter at intervals not to exceed 10,000 flight cycles: Do a detailed inspection of each affected MLG sliding tube, in accordance with the Accomplishment Instructions of Airbus Service Bulletin A320-32-1441, Revision 01, dated December 14, 2017; or Airbus Service Bulletin A320-32-1441, Revision 02, dated August 23, 2022. As of the effective date of this AD, only use Airbus Service Bulletin A320-32-1441, Revision 02, dated August 23, 2022, for the actions required by this paragraph.

Figure 3 to Paragraph (o)—Initial Compliance Time for MLG Sliding Tube Inspection

Note 3 to paragraph (o): If no reliable data regarding the number of flight cycles accumulated by the MLG sliding tube are available, operators may refer to the guidance specified in Chapter 5.2, “Traceability,” of Section 1, of Part 1 of the Airbus A318/A319/A320/A321 Airworthiness Limitations Section.

(p) Retained Corrective Actions for Certain Inspections Required by Paragraph (o) of This AD, With New Service Information

This paragraph restates the corrective actions required by paragraph (p) of AD 2019-12-07 for certain inspections required by paragraph (o) of this AD, with new service information. For airplanes on which any inspection required by paragraph (o) of this AD has been done before the effective date of this AD, comply with paragraph (p)(1) or (2) of this AD, as applicable. For airplanes on which any inspection required by paragraph (o) of this AD has been done on or after the effective date of this AD, comply with paragraph (y)(1) or (3) of this AD, as applicable.

(1) If any crack is detected on an MLG sliding tube, before further flight, replace that MLG sliding tube with a serviceable MLG sliding tube, in accordance with the Accomplishment Instructions of Airbus Service Bulletin A320-32-1441, Revision 01, dated December 14, 2017; or Airbus Service Bulletin A320-32-1441, Revision 02, dated August 23, 2022.

(2) Replacement of an MLG on an airplane with an MLG having a serviceable MLG sliding tube installed is an acceptable method to comply with the requirements of paragraph (p)(1) of this AD for that airplane.

(q) Retained Part Replacement, With New Reference to New Parts Installation Limitation

This paragraph restates the parts replacement required by paragraph (q) of AD 2019-12-07, with new reference to new parts installation limitation.

(1) Within 10 years after August 1, 2019 (the effective date of AD 2019-12-07), replace each affected MLG sliding tube with an MLG sliding tube that is not affected. Installation of an MLG sliding tube that is not affected on an airplane constitutes terminating action for the repetitive inspections required by paragraph (o) of this AD for that airplane. As of the effective date of this AD, operators also must comply with the parts installation limitation specified in paragraph (aa) of this AD.

(2) Replacement of an MLG on an airplane with an MLG that does not have an affected MLG sliding tube installed is an acceptable method to comply with the requirements of paragraph (q)(1) of this AD for that airplane. As of the effective date of this AD, operators also must comply with the parts installation limitation specified in paragraph (aa) of this AD.

(r) Retained Parts Installation Limitation, With a New Exception to Paragraph (r)(1) of This AD

This paragraph restates the parts installation limitation specified in paragraph (r) of AD 2019-12-07, with a new exception to paragraph (r)(1) of this AD.

(1) As of August 1, 2019 (the effective date of AD 2019-12-07) and before the effective date of this AD, no person may install on any airplane an affected MLG shock absorber assembly containing a discrepant MLG sliding tube part number. As of the effective date of this AD, comply with the parts installation limitation specified in paragraph (aa)(1) of this AD.

(2) Do not install an affected MLG sliding tube on any airplane as specified in paragraph (r)(2)(i) or (ii) of this AD, as applicable.

(i) For an airplane with an affected MLG sliding tube installed as of August 1, 2019 (the effective date of AD 2019-12-07): After replacement of each affected MLG sliding tube as required by paragraph (q) of this AD.

(ii) For an airplane that does not have an affected MLG sliding tube installed as of August 1, 2019 (the effective date of AD 2019-12-07): As of August 1, 2019.

(s) Retained Identification of Airplanes Not Affected by Certain Requirements of This AD, With No Changes

This paragraph restates the airplanes not affected provision specified in paragraph (s) of AD 2019-12-07, with no changes. An airplane on which Airbus Modification 161202 or Modification 161346 has been installed in production is not affected by the requirements of paragraphs (g), (h), (j), (o), and (q) of this AD, provided it has been verified that no affected MLG sliding tube is installed on that airplane.

(t) Retained Credit for Previous Actions, With No Changes

This paragraph restates the credit for previous actions specified in paragraph (t) of AD 2019-12-07, with no changes.

(1) This paragraph provides credit for the actions required by paragraph (g) of this AD, if those actions were performed before June 29, 2007 (the effective date of AD 2007-11-11), using Airbus AOT A320-32A1273, Revision 01, dated May 6, 2004. This document was incorporated by reference in AD 2004-11-13, Amendment 39-13659 (69 FR 31867, June 8, 2004).

(2) This paragraph provides credit for the initial inspection and applicable corrective actions required by paragraphs (o) and (p) of this AD if those actions were performed before August 1, 2019 (the effective date of AD 2019-12-07), using the Accomplishment Instructions in Airbus Service Bulletin A320-32-1441, dated December 28, 2016.

(u) Retained Service Information Exception, With No Changes

This paragraph restates the service information exception specified in paragraph (u) of AD 2019-12-07, with no changes. The service information specified in paragraph (g) of this AD has instructions to send any cracked part to Messier-Dowty. This AD does not include such a requirement.

(v) Retained No Reporting Requirement, With New Service Information

This paragraph restates the no reporting requirement provision specified in paragraph (v) of AD 2019-12-07, with new service information. Although Airbus Service Bulletin A320-32-1441, Revision 01, dated December 14, 2017; and Airbus Service Bulletin A320-32-1441, Revision 02, dated August 23, 2022; specify to submit certain information to the manufacturer, and specify that action as “RC” (required for compliance), this AD does not include that requirement.

(w) New Definitions for New Requirements of This AD

For the purpose of paragraphs (x), (y), (z), (aa), and (bb) of this AD, the following definitions apply.

(1) Affected MLG sliding tube: An MLG sliding tube having a part number identified in Safran Service Bulletin 200-32-321, Revision 4, dated November 3, 2021, for Model A318, A319, and A320 series airplanes, or Safran Service Bulletin 201-32-68, Revision 4, dated November 3, 2021, for Model A321 series airplanes; except those having a serial number identified in Appendix B of Safran Service Bulletin 200-32-321, Revision 2, dated October 3, 2017, for Model A318, A319, and A320 series airplanes, or Safran Service Bulletin 201-32-68, Revision 2, dated October 3, 2017, for Model A321 series airplanes; and except those parts that passed an inspection as specified in Safran Service Bulletin 200-32-321 or Safran Service Bulletin 201-32-68, as applicable; and those parts that, after that inspection, have been repaired, using instructions approved by the Manager, International Section, Transport Standards Branch, FAA; or EASA; or Airbus SAS's EASA DOA. If approved by the DOA, the approval must include the DOA-authorized signature.

Note 4 to paragraph (w)(1) of this AD: The affected MLG sliding tubes identified in paragraph (w)(1) of this AD are referred to as affected “Batch 2” MLG sliding tubes in EASA AD 2022-0204R1, dated February 15, 2023; corrected February 17, 2023.

(2) Serviceable MLG sliding tube: Any MLG sliding tube other than those identified in paragraphs (w)(2)(i) thru (iii) of this AD.

(i) Any MLG sliding tube having a part number and serial number listed in figure 2 to paragraph (i) of this AD.

(ii) Any affected MLG sliding tube identified in paragraph (n)(2) of this AD.

(iii) Any affected MLG sliding tube identified in paragraph (w)(1) of this AD.

(x) New Inspections for Additional Affected MLG Sliding Tubes

At the compliance time specified in figure 4 to paragraph (x) of this AD, and thereafter at intervals not to exceed 10,000 flight cycles: Do a detailed inspection of each affected MLG sliding tube, as defined in paragraph (w)(1) of this AD, in accordance with the Accomplishment Instructions of Airbus Service Bulletin A320-32-1441, Revision 02, dated August 23, 2022.

Figure 4 to Paragraph (x)—Initial Compliance Time for MLG Sliding Tube Inspection

Note 5 to paragraph (x): If no reliable data regarding the number of flight cycles accumulated by the MLG sliding tube are available, operators may refer to the guidance specified in Chapter 5.2, “Traceability,” of Section 1, of Part 1 of the Airbus A318/A319/A320/A321 Airworthiness Limitations Section.

(y) New Corrective Actions

(1) For airplanes on which any inspection required by paragraph (o) of this AD has been done on or after the effective date of this AD: If any crack is detected on an MLG sliding tube, before further flight, replace that MLG sliding tube with a serviceable MLG sliding tube, as defined in paragraph (w)(2) of this AD, in accordance with the Accomplishment Instructions of Airbus Service Bulletin A320-32-1441, Revision 02, dated August 23, 2022.

(2) If, during any inspection required by paragraph (x) of this AD, any crack is detected on an MLG sliding tube: Before further flight, replace that MLG sliding tube with a serviceable MLG sliding tube, as defined in paragraph (w)(2) of this AD, in accordance with the Accomplishment Instructions of Airbus Service Bulletin A320-32-1441, Revision 02, dated August 23, 2022.

(3) Replacement of an MLG on an airplane with an MLG having a serviceable MLG sliding tube, as defined in paragraph (w)(2) of this AD, installed is an acceptable method to comply with the requirements of paragraph (y)(1) or (2) of this AD for that airplane.

(z) New Replacement for Additional Affected Parts

(1) Within 10 years after the effective date of this AD, replace each affected MLG sliding tube, as defined in paragraph (w)(1) of this AD, with a serviceable MLG sliding tube, as defined in paragraph (w)(2) of this AD. Replacement on an airplane of all affected MLG sliding tubes with serviceable MLG sliding tubes constitutes terminating action for the repetitive inspections required by paragraph (x) of this AD for that airplane.

(2) Replacement of an MLG on an airplane with an MLG that has a serviceable MLG sliding tube, as defined in paragraph (w)(2) of this AD, installed is an acceptable method to comply with the requirement of paragraph (z)(1) of this AD for that airplane.

(aa) New Parts Installation Limitation

(1) As of the effective date of this AD, no person may install on any airplane an MLG shock absorber assembly that contains any MLG sliding tube identified in paragraphs (aa)(i) through (iii) of this AD.

(i) Any MLG sliding tube having a part number and serial number listed in figure 2 to paragraph (i) of this AD.

(ii) Any affected MLG sliding tube identified in paragraph (n)(2) of this AD.

(iii) Any affected MLG sliding tube identified in paragraph (w)(1) of this AD.

(2) Do not install an affected MLG sliding tube identified in paragraph (w)(1) of this AD on any airplane as specified in paragraph (aa)(2)(i) or (ii) of this AD, as applicable.

(i) For an airplane with an affected MLG sliding tube installed as of the effective date of this AD: After replacement of each affected MLG sliding tube as required by paragraph (z) of this AD.

(ii) For an airplane that does not have an affected MLG sliding tube installed as of the effective date of this AD: As of the effective date of this AD.

(bb) New Identification of Airplanes Not Affected by Certain Requirements of This AD

An airplane on which Airbus Modification 161202 or Modification 161346 has been installed in production is not affected by the requirements for affected MLG sliding tubes in paragraph (x) of this AD and the requirement of paragraph (z) of this AD, provided it has been verified that no affected MLG sliding tube, as defined in paragraph (w)(2) of this AD, is installed on that airplane.

(cc) No Reporting Requirement for New Actions

Although Airbus Service Bulletin A320-32-1441, Revision 01, dated December 14, 2017; and Airbus Service Bulletin A320-32-1441, Revision 02, dated August 23, 2022; specify to submit certain information to the manufacturer, and specify that action as “RC” (required for compliance), this AD does not include that requirement.

(dd) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (ee)(2) of this AD or email to: 9-AVS-AIR-730-AMOC@faa.gov. If mailing information, also submit information by email.

(i) Before using any approved AMOC, notify your appropriate principal inspector, or lacking a principal inspector, the manager of the responsible Flight Standards Office.

(ii) AMOCs approved for AD 2019-12-07 are approved as AMOCs for the corresponding provisions of this AD.

(2) Contacting the Manufacturer: For any requirement in this AD to obtain instructions from a manufacturer, the instructions must be accomplished using a method approved by the Manager, International Validation Branch, FAA; or the European Union Aviation Safety Agency (EASA); or Airbus SAS's EASA DOA. If approved by the DOA, the approval must include the DOA-authorized signature.

(3) Required for Compliance (RC): Except as required by paragraphs (u), (v), and (dd)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(ee) Additional Information

(1) Refer to EASA AD 2022-0204R1, dated February 15, 2023; corrected February 17, 2023; for related information. This EASA AD may be found in the AD docket at regulations.gov under Docket No. FAA-2023-1645.

(2) For more information about this AD, contact Timothy Dowling, Aviation Safety Engineer, FAA, 1600 Stewart Avenue, Suite 410, Westbury, NY 11590; phone: 206-231-3667; email: Timothy.P.Dowling@faa.gov.

(3) Service information identified in this AD that is not incorporated by reference is available at the addresses specified in paragraphs (ff)(8) and (10) of this AD.

(ff) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on [DATE 35 DAYS AFTER PUBLICATION OF THE FINAL RULE].

(i) Airbus Service Bulletin A320-32-1441, Revision 02, dated August 23, 2022.

(ii) Safran Service Bulletin 200-32-321, Revision 4, dated November 3, 2021.

(iii) Safran Service Bulletin 201-32-68, Revision 4, dated November 3, 2021.

(4) The following service information was approved for IBR on August 1, 2019 (84 FR 30579, June 27, 2019).

(i) Airbus Service Bulletin A320-32-1441, Revision 01, dated December 14, 2017.

(ii) Messier-Dowty Service Bulletin 200-32-286, Revision 3, dated October 3, 2008.

(iii) Messier-Dowty Service Bulletin 201-32-43, Revision 3, dated October 3, 2008.

(iv) Safran Service Bulletin 200-32-321, Revision 2, dated October 3, 2017.

(v) Safran Service Bulletin 201-32-68, Revision 2, dated October 3, 2017.

(5) The following service information was approved for IBR on February 22, 2017 (82 FR 5362, January 18, 2017).

(i) Airbus Service Bulletin A320-32-1416, including Appendix 01, dated March 10, 2014.

(ii) [Reserved]

(6) The following service information was approved for IBR on June 29, 2007 (72 FR 29241, May 25, 2007).

(i) Airbus Service Bulletin A320-32A1273, Revision 02, including Appendix 01, dated May 26, 2005.

(ii) [Reserved]

(7) The following service information was approved for IBR on June 23, 2004 (69 FR 31867, June 8, 2004).

(i) Airbus All Operators Telex A320-32A1273, Revision 01, dated May 6, 2004.

(ii) [Reserved]

(8) For Airbus service information identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(9) For Safran and Messier-Dowty service information identified in this AD, contact Safran Landing Systems, One Carbon Way, Walton, KY 41094; telephone (859) 525-8583; fax (859) 485-8827; internet www.safran-landing-systems.com.

(10) You may view this service information at the FAA, Airworthiness Products Section, Operational Safety Branch, 2200 South 216th St., Des Moines, WA. For information on the availability of this material at the FAA, call 206-231-3195.

(11) You may view this service information that is incorporated by reference at the National Archives and Records Administration (NARA). For information on the availability of this material at NARA, email fr.inspection@nara.gov, or go to: www.archives.gov/federal-register/cfr/ibr-locations.html.

Issued on July 25, 2023.
Victor Wicklund,
Deputy Director, Compliance & Airworthiness Division, Aircraft Certification Service.

[FR Doc. 2023-16189 Filed 7-31-23; 8:45 am]

BILLING CODE 4910-13-P